DEPARTMENT OF THE INTERIOR

Bureau of Indian Affairs

Environmental Impact Statement for the Proposed Wheatgrass Ridge Wind Project, Fort Hall Indian Reservation, Idaho

AGENCY: Bureau of Indian Affairs, Interior.

ACTION: Notice of cancellation.

SUMMARY: This notice announces that the Bureau of Indian Affairs (BIA) intends to cancel all work on the Environmental Impact Statement (EIS) for the proposed Wheatgrass Ridge Wind Project on the Fort Hall Indian Reservation, Idaho.

FOR FURTHER INFORMATION CONTACT: Dr. B. J. Howerton, Environmental Services Manager, telephone (503) 231-6749.

SUPPLEMENTARY INFORMATION: The BIA is canceling work on this EIS because the proponent of the Wheatgrass Ridge Wind Project, the Wheatgrass Ridge Wind, LLC., has formally withdrawn the proposal. The notice of intent to prepare the EIS, which included a description of the proposed action, was published in the Federal Register on June 2, 2011 (76 FR 31975). The Draft EIS had not been published.

Dated: April 3, 2012.
Donald E. Laverdure,
Principal Deputy Assistant Secretary—Indian Affairs.

[FR Doc. 2012-10080 Filed 4-25-12; 8:45 am]

BILLING CODE 4310-W7-P